DEPARTMENT OF TRANSPORTATION

Federal Aviation Administration

14 CFR Part 39

[Docket No. FAA-2006-24254; Directorate Identifier 2006-CE-24-AD; Amendment 39-14767; AD 2006-19-10]

RIN 2120-AA64

Airworthiness Directives; Cirrus Design Corporation Models SR20 and SR22 Airplanes

AGENCY: Federal Aviation Administration (FAA), DOT.

ACTION: Final rule.

SUMMARY: We are adopting a new airworthiness directive (AD) that supersedes AD 2005-17-19, which applies to certain Cirrus Design Corporation (CDC) Models SR20 and SR22 airplanes. AD 2005-17-19 currently requires you to measure and adjust the crew seat break-over bolts and to replace the crew seat recline locks on both crew seats. Since we issued AD 2005-17-19, CDC developed new crew seat break-over pins to replace the old crew seat break-over bolts. Consequently, this AD retains the action from AD 2005-17-19 of replacing the crew seat recline locks on both seats and adds the action of replacing the crew seat break-over bolts with the new crew seat break-over pins on both seats. We are issuing this AD to prevent the crew seats from folding forward during emergency landing dynamic loads with consequent occupant injury.

DATES: This AD becomes effective on October 24, 2006.

As of October 24, 2006 the Director of the Federal Register approved the incorporation by reference of Cirrus Design Corporation Service Bulletin SB 2X-25-17 R1, Issued: December 15, 2005, Revised: January 20, 2006.

As of October 13, 2005 (70 FR 51999, September 1, 2005), the Director of the Federal Register previously approved the incorporation by reference of Cirrus Design Corporation Service Bulletin SB 2X-25-06 R4, Issued: August 13, 2004; Revised: May 5, 2005.

ADDRESSES: To get the service information identified in this AD, contact Cirrus Design Corporation, 4515 Taylor Circle, Duluth, Minnesota 55811; telephone: (218) 727-2737; Internet address: http://www.cirrusdesign.com.

To view the AD docket, go to the Docket Management Facility; U.S. Department of Transportation, 400 Seventh Street, SW., Nassif Building, Room PL-401, Washington, DC 20590-0001 or on the Internet at http://dms.dot.gov. The docket number is FAA-2006-24254; Directorate Identifier 2006-CE-24-AD.

FOR FURTHER INFORMATION CONTACT: • Wess Rouse, Small Airplane Project Manager, ACE-117C, Chicago Aircraft Certification Office, 2300 East Devon Avenue, Room 107, Des Plaines, Illinois 60018; telephone: (847) 294-8113; facsimile: (847) 294-7834; e-mail: wess.rouse@faa.gov; or

• Angie Kostopoulos, Composite Technical Specialist, ACE-116C, Chicago Aircraft Certification Office, 2300 East Devon Avenue, Room 107, Des Plaines, Illinois 60018; telephone: (847) 294-7426; facsimile: (847) 294-7834; e-mail: evangelia.kostopoulos@faa.gov.

SUPPLEMENTARY INFORMATION:

Discussion

On April 25, 2006, we issued a proposal to amend part 39 of the Federal Aviation Regulations (14 CFR part 39) to include an AD that would apply to certain CDC Models SR20 and SR22 airplanes. This proposal was published in the Federal Register as a notice of proposed rulemaking (NPRM) on May 2, 2006 (71 FR 25785). The NPRM proposed to supersede AD 2005-17-19, Amendment 39-14240 (70 FR 51999, September 1, 2005), retain the action of replacing the crew seat recline locks on both seats, and add the action of replacing the crew seat break-over bolts with the new crew seat break-over pins on both seats.

Comments

We provided the public the opportunity to participate in developing this AD. The following presents the comments received on the proposal and FAA's response to each comment:

Comment Issue

We received one comment from Jenna Deutschmann. The commenter supports the AD but believes the manufacturer should be liable to correct and pay for the problem since it involves a malfunction on their part.

The FAA issues ADs to correct unsafe conditions. We do not identify who will pay for the parts or labor. In this case, CDC will provide warranty credit to the extent noted in Service Bulletins SB 2X-25-17 R1, Issued: December 15, 2005, Revised: January 20, 2006; and SB 2X-25-06 R4, Issued: August 13, 2004, Revised: May 5, 2005.

We are not changing the AD as a result of this comment.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 2,230 airplanes in the U.S. registry.

We estimate the following costs to do the required replacements:

Labor cost | Model number and serial number | Parts cost | Total cost per airplane | Total cost on U.S. operators
Replacement of the recline locks: 1 work-hour × $80 per hour = $80 | Model SR20, serial numbers (S/N) 1148 through 1152 and 1206 through 1455 | $83 | $163 | $41,565
Replacement of the recline locks: 1 work-hour × $80 per hour = $80 | Model SR20, S/N 1005 through 1147 and 1153 through 1205 | 165 | 245 | 48,020
Replacement of the recline locks: 1 work-hour × $80 per hour = $80 | Model SR22, S/N 0002 through 1044 | 89 | 169 | 176,267
Replacement of the crew seat break-over pins: 1 work-hour × $80 per hour = $80 | Model SR20, S/N 1005 through 1600 and Model SR22, S/N 0002 through 1727 | 33 | 113 | 262,273

Note: CDC will provide warranty credit to the extent noted in Service Bulletins SB 2X-25-17 R1, Issued: December 15, 2005, Revised: January 20, 2006; and SB 2X-25-06 R4, Issued: August 13, 2004, Revised: May 5, 2005.

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24254; Directorate Identifier 2006-CE-24-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2005-17-19, Amendment 39-14240 (70 FR 51999, September 1, 2005), and by adding the following new AD:

2006-19-10 Cirrus Design Corporation: Amendment 39-14767; Docket No. FAA-2006-24254; Directorate Identifier 2006-CE-24-AD.

Effective Date

(a) This AD becomes effective on October 24, 2006.

Affected ADs

(b) This AD supersedes AD 2005-17-19, Amendment 39-14240.

Applicability

(c) This AD affects the following airplane models and serial numbers that are certificated in any category:

Model | Serial Nos.
(1) SR20 | 1005 through 1600.
(2) SR22 | 0002 through 1727.

Unsafe Condition

(d) This AD results from discovering that the crew seats, under emergency landing dynamic loads, may fold forward at less than the 26 g required by the regulations, 14 Code of Federal Regulations (CFR) Section 23.562 (b)(2). We are issuing this AD to prevent the crew seats from folding forward during emergency landing with dynamic loads with consequent occupant injury.

Compliance

(e) To address this problem, you must do the following:

Actions | Compliance | Procedures
(1) For Model SR20, serial numbers (S/Ns) 1005 through 1600, and Model SR22, S/Ns 0002 through 1727, do the following actions: (i) At the lower back of the crew seat, release the reclosable fasteners to expose the lower seat frame. (ii) Replace the crew seat break-over bolt with the new crew seat break-over pin, part number 17063-002. (iii) Recover the seat frame, refastening the reclosable fasteners. (iv) Inspect the crew seat. (v) Repeat the above actions for the opposite crew seat. | Within 50 hours time-in-service (TIS) or within 180 days, whichever occurs first, after October 24, 2006 (the effective date of this AD), unless already done. | Follow Cirrus Design Corporation Service Bulletin SB 2X-25-17 R1, Issued: December 15, 2005, Revised: January 20, 2006.
(2) For Models SR20, S/Ns 1005 through 1455, and SR22, S/Ns 0002 through 1044, do the following actions: (i) Identify whether the recline lock is secured with two bolts or three bolts. | Within 50 hours TIS or within 180 days, whichever occurs first after October 13, 2005 (the effective date of AD 2005-17-19), unless already done. | Follow Cirrus Design Corporation Service Bulletin SB 2X-25-06 R4, Issued: August 13, 2004, Revised: May 5, 2005.
(ii) If the recline locks are secured with two bolts, remove the existing recline locks and replace with the new recline locks kit, Kit Number 70084-001.
(iii) If the recline locks are secured with three bolts, remove existing recline locks and replace with the new recline locks kit, Kit Number 70084-002.
(iv) Check break-over pin alignment and adjust as necessary.
(v) Check that the locks engage with the break-over bolts with the seat in the full recline position. If full seat recline is not possible or difficult to engage, grinding of the lower aft seat frame is necessary.
(vi) Repeat the above actions for the opposite crew seat.

Alternative Methods of Compliance (AMOCs)

(f) The Manager, Chicago Aircraft Certification Office, FAA, ATTN: Wess Rouse, Small Airplane Project Manager, ACE-117C, Chicago Aircraft Certification Office, 2300 East Devon Avenue, Room 107, Des Plaines, Illinois 60018; telephone: (847) 294-8113; facsimile: (847) 294-7834; e-mail: wess.rouse@faa.gov; or Angie Kostopoulos, Composite Technical Specialist, ACE-116C, Chicago Aircraft Certification Office, 2300 East Devon Avenue, Room 107, Des Plaines, Illinois 60018; telephone: (847) 294-7426; facsimile: (847) 294-7834; e-mail: evangelia.kostopoulos@faa.gov, have the authority to approve AMOCs for this AD, if requested using the procedures found in 14 CFR 39.19.

Related Information

(g) None.

Material Incorporated by Reference

(h) You must do the actions required by this AD following the instructions in Cirrus Design Corporation Service Bulletins SB 2X-25-17 R1, Issued: December 15, 2005, Revised: January 20, 2006; and SB 2X-25-06 R4, Issued: August 13, 2004; Revised: May 5, 2005.

(1) As of October 24, 2006, the Director of the Federal Register approved the incorporation by reference of Cirrus Design Corporation Service Bulletin SB 2X-25-17 R1, Issued: December 15, 2005, Revised: January 20, 2006 under 5 U.S.C. 552(a) and 1 CFR part 51.

(2) On October 13, 2005 (70 FR 51999, September 1, 2005), the Director of the Federal Register previously approved the incorporation by reference of Cirrus Design Corporation Service Bulletin SB 2X-25-06 R4, Issued: August 13, 2004, Revised: May 5, 2005.

(3) To get a copy of this service information, contact Cirrus Design Corporation, 4515 Taylor Circle, Duluth, Minnesota 55811; telephone: (218) 727-2737; Internet address: http://www.cirrusdesign.com. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-0001 or on the Internet at http://dms.dot.gov. The docket number is FAA-2006-24254; Directorate Identifier 2006-CE-24-AD.

Issued in Kansas City, Missouri, on September 8, 2006.
David R. Showers,
Acting Manager, Small Airplane Directorate, Aircraft Certification Service.

[FR Doc. E6-15432 Filed 9-18-06; 8:45 am]

BILLING CODE 4910-13-P